NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before April 5, 2002. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to (301) 713-6852 or by e-mail to records.mgt@nara.gov. Requesters must cite the control number, which appears in parentheses after the name of the agency which submitted the schedule, and must provide a mailing address. Those who desire appraisal reports should so indicate in their request.

FOR FURTHER INFORMATION CONTACT: Marie Allen, Director, Life Cycle Management Division (NWML), National Archives and Records Administration, 8601 Adelphi Road, College Park, MD 20740-6001. Telephone: (301) 713-7110. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, Agency-wide (N1-AU-02-8, 2 items, 2 temporary items). Records relating to actions designed to obtain bilateral approval for granting status accreditation to Defense Department contractor employees in Germany. Included are such records as application packages, contract notification actions, approvals and disapprovals, and related documents. Also included are electronic copies of documents created using electronic mail and word processing. The schedule also authorizes the agency to apply the proposed disposition instructions to any recordkeeping medium.

2. Department of Defense, Defense Threat Reduction Agency (N1-374-02-1, 22 items, 22 temporary items). Records relating to acquisition and procurement management. Included are correspondence, memorandums, reports, and instructions relating to such matters as Federal and Department of Defense acquisition regulations, administration of the agency's International Merchant Purchase Authorization Card program, and development of the agency's technical report policy. Also included are electronic copies of documents created using electronic mail and word processing.

3. Department of Housing and Urban Development, Office of Public and Indian Housing (N1-207-02-1, 6 items, 5 temporary items). Records of the Office of Troubled Agency Recovery including program subject files, case files relating to troubled public housing authorities, and electronic copies of records created using electronic mail and word processing. Recordkeeping copies of annual reports and publications are proposed for permanent retention.

4. Department of Housing and Urban Development, Office of Federal Housing Enterprise Oversight (N1-543-02-2, 2 items, 2 temporary items). Quarterly Performance Reports relating to the Government Performance and Results Act (GPRA). Recordkeeping copies of Annual Performance Reports were previously approved for permanent retention.

5. Department of State, Bureau of Verification and Compliance (N1-59-01-10, 46 items, 26 temporary items). Records proposed for disposal include activity reports, chronological files, and other records maintained at lower levels, subject files dealing with administrative/housekeeping matters, files relating to interagency committees for which the bureau is not the chair, and agreement, message, and chronological files of the Nuclear Risk Reduction Center. Also included are electronic copies of documents created using electronic mail and word processing. Proposed for permanent retention are recordkeeping copies of such files as activity reports accumulated by the Assistant Secretary and Deputy Assistant Secretaries, subject files relating to substantive matters, treaty negotiation files, files relating to committees chaired by the bureau, and data files and documentation for electronic information systems that pertain to research projects, arms control negotiations, and international military expenditures.

6. Department of the Treasury, Bureau of the Public Debt (N1-53-02-3, 5 items, 5 temporary items). Electronic information system used for tracking and accounting for undeliverable or stale-dated checks for the proceeds or interest payments of savings instruments. Included are master files, outputs, and system documentation, including electronic copies of documentation created using electronic mail and word processing.

7. Department of the Treasury, Bureau of the Public Debt (N1-53-02-4, 4 items, 4 temporary items). Electronic information system used for tracking and accounting for bonds that have been surrendered or confiscated by law enforcement agencies. Included are master files and system documentation, including electronic copies of documentation created using electronic mail and word processing.

8. Department of the Treasury, Bureau of the Public Debt (N1-53-02-5, 4 items, 4 temporary items). Electronic information system containing reissue information for savings notes. Included are master files, outputs, and system documentation, including electronic copies of documentation created using electronic mail and word processing.

9. Department of the Treasury, Bureau of the Public Debt (N1-53-02-6, 4 items, 4 temporary items). Electronic system containing tracking and accounting information for unissued bond stock. Included are master files, outputs, and system documentation, including electronic copies of documentation created using electronic mail and word processing.

10. Department of the Treasury, U. S. Secret Service (N1-87-02-1, 5 items, 5 temporary items). Inputs, master files, outputs, and system documentation pertaining to the Manhour Reporting System, an electronic system used to account for the time and activities of Secret Service law enforcement personnel.

11. Federal Emergency Management Agency, External Affairs Directorate (N1-311-02-3, 6 items, 1 temporary item). Electronic copies of documents created using electronic mail and word processing that relate to international agreements. Recordkeeping copies of these files are proposed for permanent retention.

12. National Archives and Records Administration, Agency-wide (N1-64-00-8, 46 items, 39 temporary items). Records relating to planning and administration. Included are such records as strategic planning files that do not pertain to major changes in agency policy or organization, case files pertaining to the development of performance plans, committee management files, non-substantive documents accumulated in the preparation of customer service plans, customer surveys, forms and electronic records that document the allocation of vacancies among agency components, staffing plans in paper and electronic form, and documents that relate to commercial activity inventories prepared in accordance with Office of Management and Budget Circular A-76. Also included are electronic copies of records created using electronic mail and word processing. Proposed for permanent retention are recordkeeping copies of such files as strategic planning records that document major changes in agency policy or organization, annual performance plans and reports, customer service plans, and reports that analyze customer surveys.

13. National Archives and Records Administration, Office of the Federal Register (N1-64-02-4, 1 item, 1 temporary item). Reduction in the retention period of proposed rules. These files were previously approved for disposal.

14. Pension Benefit Guaranty Corporation, Corporate Policy and Research Department (N1-465-02-1, 18 items, 11 temporary items). Records pertaining to such matters as legislation not related to Title IV of the Employee Retirement Income Security Act, requests for Office of Management and Budget approval of information collection from the public, and the preparation of regulations, policies, and research studies. Also included are electronic databases pertaining to pension insurance modeling and research projects as well as electronic copies of documents created using electronic mail and work processing. Proposed for permanent retention are recordkeeping copies of such records as files pertaining to significant legislation, background papers and other records pertaining to selected regulations and policies, published and unpublished research reports and studies, and electronic databases consisting of longitudinal and transactional data, with the related system documentation.

15. Tennessee Valley Authority, Education, Training and Diversity (N1-142-00-1, 26 items, 24 temporary items). Records relating to employee and outreach training programs including such records as applications, lists of attendees, correspondence, forms, meeting notes, and brochures. Also included are electronic copies of documents created using electronic mail and word processing and an electronic information system containing data on training taken by agency employees. Proposed for permanent retention are recordkeeping copies of newsletters and files documenting the agency's overall strategic training needs.

Dated: February 11, 2002.
Michael J. Kurtz,
Assistant Archivist for Record Services—Washington, DC.

[FR Doc. 02-3943 Filed 2-15-02; 8:45 am]

BILLING CODE 7515-01-P